DEPARTMENT OF LABOR

Employment and Training Administration

Comment Request for Information Collection for Monitoring Implementation of Changes to State Unemployment Insurance (UI) Programs, Extension Without Revisions

AGENCY: Employment and Training Administration (ETA), Labor.

ACTION: Notice.

SUMMARY: The U.S. Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)]. This program helps ensure that requested data can be provided in the desired format, reporting burden (time and financial resources) is minimized, collection instruments are clearly understood, and the impact of collection requirements on respondents can be properly assessed.

ETA is soliciting comments concerning the continuation of the collection of data to support monitoring of implementation of changes to State UI Programs beyond the current expiration date of 12/31/2012.

DATES: Written comments must be submitted to the office listed in the addresses section below on or before October 12, 2012.

ADDRESSES: Submit written comments to Scott Gibbons, Office of Unemployment Insurance, Employment and Training Administration, U.S. Department of Labor, 200 Constitution Avenue NW., Washington, DC 20210. Telephone number: 202-693-3008 (this is not a toll-free number). Individuals with hearing or speech impairments may access the telephone number above via TTY by calling the toll-free Federal Information Relay Service at 1-877-889-5627 (TTY/TDD). Email: gibbons.scott@dol.gov. A copy of the proposed information collection request (ICR) can be obtained by contacting Mr. Gibbons.

SUPPLEMENTARY INFORMATION:

I. Background

The Department has responsibility for ensuring that states implement the extension and modifications to the Emergency Unemployment Compensation (EUC) program, including Reemployment Services and Reemployment and Eligibility Assessment Activities (REA) for recipients of EUC, herein referred to as EUC RES/REA, and the Work Search Audit requirement in accordance with the Middle Class Job Creation and Tax Relief Act of 2012 (Act), Title II, Subtitle C, and USDOL operating instructions.

ETA is responsible for conducting EUC reviews, Work Search Audit, and EUC RES/REA program reviews. Given the lack of resources available for detailed monitoring, ETA intends to use a questionnaire as a monitoring tool to establish which states are most in need of technical assistance. The goal of this questionnaire is to ensure that states have plans to properly implement and administer the EUC modifications, Work Search Audit, and EUC RES/REA requirements. This collection provides ETA with information pointing to key areas in which technical assistance to states is necessary.

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension without changes.

Title: Monitoring Implementation of Changes to State Unemployment Insurance (UI) Programs.

OMB Number: 1205-0500.

Affected Public: State Workforce Agencies.

Form(s): Questionnaire for State Workforce Agencies.

Total Annual Respondents: 53.

Annual Frequency: One-time collection.

Total Annual Responses: 1.

Average Time per Response: 30 hours.

Estimated Total Annual Burden Hours: 1,590 hours.

Total Annual Burden Cost for Respondents: There are no burden costs.

Comments submitted in response to this comment request will be summarized and/or included in the request for OMB approval of the ICR; they will also become a matter of public record.

Dated: Signed in Washington, DC, on this 6th day of August, 2012.
Jane Oates,
Assistant Secretary for Employment and Training, Labor.

[FR Doc. 2012-19706 Filed 8-10-12; 8:45 am]

BILLING CODE 4510-FW-P